DEPARTMENT OF LABOR

Wage and Hour Division

29 CFR Parts 4, 531, 553, 778, 779, 780, 785, 786, and 790

RIN 1215-AB13

Updating Regulations Issued Under the Fair Labor Standards Act

AGENCY: Wage and Hour Division, Employment Standards Administration, Department of Labor.

ACTION: Extension of comment period on proposed regulations.

SUMMARY: This document extends the period for filing written comments for an additional 15 days on proposed revisions to regulations issued under the Fair Labor Standards Act of 1938 (FLSA) and the Portal-to-Portal Act of 1947 (Portal Act) that have become out of date because of subsequent legislation or court decisions. The Department of Labor is taking this action in order to provide interested parties additional time to submit comments.

DATES: Comments must be received on or before September 26, 2008.

ADDRESSES: You may submit comments, identified by RIN 1215-AB13, by either one of the following methods:

• Electronic comments, through the federal eRulemaking Portal: http://www.regulations.gov. Follow the instructions for submitting comments.

• Mail: Wage and Hour Division, Employment Standards Administration, U.S. Department of Labor, Room S-3502, 200 Constitution Avenue, NW., Washington, DC 20210.

Instructions: Please submit one copy of your comments by only one method. All submissions received must include the agency name and Regulatory Information Number (RIN) identified above for this rulemaking. Comments received will be posted to http://www.regulations.gov, including any personal information provided. Because we continue to experience delays in receiving mail in the Washington, DC, area, commenters are strongly encouraged to transmit their comments electronically via the federal eRulemaking Portal at http://www.regulations.gov or to submit them by mail early. For additional information on submitting comments and the rulemaking process, see the “Public Participation” heading of the SUPPLEMENTARY INFORMATION section of this document.

Docket: For access to the docket to read background documents or comments received, go to the federal eRulemaking Portal at http://www.regulations.gov.

FOR FURTHER INFORMATION CONTACT: Richard M. Brennan, Director, Office of Interpretations and Regulatory Analysis, Wage and Hour Division, Employment Standards Administration, U.S. Department of Labor, Room S-3506, 200 Constitution Avenue, NW., Washington, DC 20210; telephone: (202) 693-0051 (this is not a toll-free number). Copies of this notice may be obtained in alternative formats (Large Print, Braille, Audio Tape or Disc), upon request, by calling (202) 693-0023 (not a toll-free number). TTY/TDD callers may dial toll-free (877) 889-5627 to obtain information or request materials in alternative formats.

Questions of interpretation and/or enforcement of regulations issued by this agency or referenced in this notice may be directed to the nearest Wage and Hour Division (WHD) District Office. Locate the nearest office by calling our toll-free help line at (866) 4USWAGE ((866) 487-9243) between 8 a.m. and 5 p.m. in your local time zone, or log onto the WHD's Web site for a nationwide listing of Wage and Hour District and Area Offices at: http://www.dol.gov/esa/contacts/whd/america2.htm.

SUPPLEMENTARY INFORMATION:

I. Electronic Access and Filing Comments

Public Participation: This notice is available through the Federal Register and the http://www.regulations.gov Web site. You may also access this notice via the WHD home page at http://www.dol.gov/esa/whd/regulations/FLSA2008.htm. To comment electronically on federal rulemakings, go to the federal eRulemaking Portal at http://www.regulations.gov, which will allow you to find, review, and submit comments on federal documents that are open for comment and published in the Federal Register. Please identify all comments submitted in electronic form by the RIN docket number (1215-AB13). Because of delays in receiving mail in the Washington, DC, area, commenters should transmit their comments electronically via the federal eRulemaking Portal at http://www.regulations.gov, or submit them by mail early to ensure timely receipt prior to the close of the comment period. Submit one copy of your comments by only one method.

II. Request for Comment

In the Federal Register of July 28, 2008 (73 FR 43654), the Department of Labor published a notice of proposed rulemaking requesting public comments on proposed revisions to update existing outdated regulatory provisions under the FLSA and the Portal Act. The proposed revisions are intended to conform the regulations to FLSA amendments passed in 1974, 1977, 1996, 1997, 1998, 1999, 2000, and 2007, a Portal Act amendment passed in 1996, and to several authoritative federal appellate court rulings that have invalidated portions of the existing regulations. Interested parties were requested to submit comments on or before September 11, 2008.

The Department has received requests to extend the period for filing public comments from representatives of the following organizations: American Federation of Labor and Congress of Industrial Organizations; National Employment Lawyers Association; National Employment Law Project; International Association of Fire Fighters; American Federation of State, County and Municipal Employees, AFL-CIO; and Service Employees International Union CTW, CLC. Because of the interest that has been expressed in this matter, the Department has decided to extend the period for submitting public comments for 15 additional days, to September 26, 2008.

Signed at Washington, DC this 18th day of August 2008.
Victoria A. Lipnic,
Assistant Secretary, Employment Standards Administration.
Alexander J. Passantino,
Acting Administrator, Wage and Hour Division.

[FR Doc. E8-19475 Filed 8-21-08; 8:45 am]

BILLING CODE 4510-27-P